FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 017992NF.

Name: A&C Import Export Services, Inc.

Address: 6317 18th Ave., Suite 302, Brooklyn, NY 11204.

Date Revoked: July 12, 2006.

Reason: Failed to maintain valid bonds.

License Number: 018823N.

Name: ACGroup Worldwide Logistics Inc.

Address: 701 W. Manchester Blvd., Suite 203, Inglewood, CA 90301.

Date Revoked: July 5, 2006.

Reason: Failed to maintain a valid bond.

License Number: 019534NF.

Name: AICS, Inc. dba Airwaves International Cargo Services.

Address: 12333 S. Van Ness Ave., #107, Hawthorne, CA 90250.

Date Revoked: June 23, 2006.

Reason: Failed to maintain valid bonds.

License Number: 014272N.

Name: CDC USA, Inc.

Address: 2000 Kennedy Ave., 3rd Floor, San Juan, PR 00920.

Date Revoked: July 10, 2006.

Reason: Failed to maintain a valid bond.

License Number: 016017N.

Name: Carotrans International, Inc.

Address: 2401 Morris Ave., 2nd Floor West, Union, NJ 07083.

Date Revoked: June 18, 2006.

Reason: Failed to maintain a valid bond.

License Number: 010708N.

Name: Dukes Clearance Corporation.

Address: 11222 La Cienega Blvd., Ste. 455, Inglewood, CA 90304.

Date Revoked: July 15, 2006.

Reason: Failed to maintain a valid bond.

License Number: 004674F.

Name: G & A International Freight Forwarder, Inc.

Address: 6595 NW 36th Street, Ste. 213A, Miami, FL 33166.

Date Revoked: April 28, 2006.

Reason: Failed to maintain a valid bond.

License Number: 004593F.

Name: ISCO 1 (International Service Company 1).

Address: 7322 Onyx Street, New Orleans, LA 70124.

Date Revoked: July 4, 2006.

Reason: Surrendered license voluntarily.

License Number: 002352F.

Name: Intermar Export Services, Inc.

Address: 3 Pequot Path, Oakland, NJ 07436.

Date Revoked: June 17, 2006.

Reason: Failed to maintain a valid bond.

License Number: 017198F.

Name: OMJ International Freight Inc.

Address: 2401 NW 93rd Ave., Miami, FL 33172.

Date Revoked: June 23, 2006.

Reason: Failed to maintain a valid bond.

License Number: 019519NF.

Name: Ocean Star Shipping Inc.

Address: East 80, Route 4, Suite 410, Paramus, NJ 07652.

Date Revoked: July 13, 2006.

Reason: Failed to maintain valid bonds.

License Number: 018528NF.

Name: Payson International Freight, Inc.

Address: 145-52 157th Street, Jamaica, NY 11434.

Date Revoked: July 2, 2006.

Reason: Failed to maintain valid bonds.

License Number: 019284N.

Name: Petcon Freight Systems, LLC.

Address: 175-01 Rockaway Blvd., Ste. 215-218, Jamaica, NY 11434.

Date Revoked: July 5, 2006.

Reason: Failed to maintain a valid bond.

License Number: 005820N.

Name: Ren International Services, Inc.

Address: 860 East Carson Street, #114, Carson, CA 90745.

Date Revoked: July 11, 2006.

Reason: Failed to maintain a valid bond.

License Number: 016664NF.

Name: Trans Global Projects, Inc. dba Trans Global Shipping.

Address: 4607 World Houston Parkway, Ste. 100, Houston, TX 77032.

Date Revoked: June 29, 2006.

Reason: Failed to maintain valid bonds.

License Number: 017824N.

Name: Trans World Freight Services, Inc. dba Trans Young Shipping Co.

Address: 165-55 148th Ave., Jamaica, NY 11434.

Date Revoked: July 6, 2006.

Reason: Failed to maintain a valid bond.

License Number: 019471NF.

Name: Turk Group, Incorporated dba M.T.G.

Address: 13921 S. Figueroa Street, Los Angeles, CA 90061.

Date Revoked: July 11, 2006.

Reason: Failed to maintain valid bonds.

License Number: 019794F.

Name: Via Mat International (USA) Inc.

Address: 130 Sheridan Blvd., Inwood, NY 11096.

Date Revoked: June 30, 2006.

Reason: Surrendered license voluntarily.

Sandra L. Kusumoto,
Director, Bureau of Certification and Licensing.

[FR Doc. E6-12988 Filed 8-8-06; 8:45 am]

BILLING CODE 6730-01-P